DEPARTMENT OF COMMERCE

International Trade Administration

[A-580-903]

Polyethylene Terephthalate Sheet From the Republic of Korea: Final Results of Sunset Review and Revocation of Antidumping Duty Order

AGENCY: Enforcement and Compliance, International Trade Administration, Department of Commerce.

SUMMARY: On August 1, 2025, the U.S. Department of Commerce (Commerce) initiated the first sunset review of the antidumping duty (AD) order on polyethylene terephthalate (PET) sheet from the Republic of Korea (Korea). Because no domestic party responded to the sunset review notice of initiation by the applicable deadline, consistent with section 751(c)(3)(A) of the Tarriff Act of 1930, as amended (the Act), Commerce is revoking the AD order on polyethylene terephthalate sheet from Korea.

DATES: Applicable January 12, 2026.

FOR FURTHER INFORMATION CONTACT: David De Falco, Trade Agreements Policy and Negotiations, Enforcement and Compliance, International Trade Administration, U.S. Department of Commerce, 1401 Constitution Avenue NW, Washington, DC 20230; telephone: (202) 482-2178.

SUPPLEMENTARY INFORMATION:

Background

On September 10, 2020, Commerce published the Order on PET sheet from Korea.¹ On August 1, 2025 Commerce initiated the first sunset review of the Order pursuant to section 751(c) of the Act.²

¹ See Polyethylene Terephthalate Sheet from the Republic of Korea and the Sultanate of Oman: Antidumping Duty Orders, 85 FR 55824, (September 10, 2020) (Order).

² See Initiation of Five-Year (Sunset) Reviews, 90 FR 36139, dated August 1, 2025.

We did not receive a timely notice to participate in this sunset review from any domestic interested party, pursuant to 19 CFR 351.218(d)(1)(i). As a result, consistent with 19 CFR 351.218(d)(1)(iii)(B)(1), because Commerce “did not receive a Notice of Intent to Participate from a domestic party in the sunset review of the {Order},” Commerce notified the U.S. International Trade Commission (ITC) in writing pursuant to 19 CFR 315.218(d)(1)(iii)(B)(2).³ Further, we did not receive a timely substantive response to the notice of initiation of this sunset review from any domestic party, and, pursuant to section 751(c)(3)(A) of the Act and 19 CFR 351.218(e)(1)(i)(C)(3), notified the ITC of our intent to revoke this Order “not later than 90 days after the date of publication of the Federal Register notice of initiation.” ⁴

³ See Commerce's Letter, “Sunset Reviews Initiated on August 1, 2025,” dated August 22, 2025.

⁴ See Commerce's Letter, “Sunset Review Initiated on August 1, 2025,” dated September 11, 2025.

Due to the lapse in appropriations and Federal Government shutdown, on November 14, 2025, Commerce tolled all deadlines in administrative proceedings by 47 days.⁵ Additionally, due to a backlog of documents that were electronically filed via Enforcement and Compliance's Antidumping and Countervailing Duty Centralized Electronic Service System (ACCESS) during the Federal Government shutdown, on November 24, 2025, Commerce tolled all deadlines in administrative proceedings by an additional 21 days.⁶ Accordingly, the deadline for these final results is now January 6, 2026.

⁵ See Memorandum, “Deadlines Affected by the Shutdown of the Federal Government,” dated November 14, 2025.

⁶ See Memorandum, “Tolling of all Case Deadlines,” dated November 24, 2025.

Scope of the Order

The merchandise covered by this Order is raw, pretreated, or primed polyethylene terephthalate sheet, whether extruded or coextruded, in nominal thicknesses of equal to or greater than 7 mil (0.007 inches or 177.8 mm) and not exceeding 45 mil (0.045 inches or 1143 mm) (PET sheet). The scope includes all PET sheet whether made from prime (virgin) inputs or recycled inputs, as well as any blends thereof. The scope includes all PET sheet meeting the above specifications regardless of width, color, surface treatment, coating, lamination, or other surface finish. The merchandise subject to this Order is properly classified under statistical reporting number 3920.62.0090 of the Harmonized Tariff Schedule of the United States (HTSUS). Although the HTSUS statistical reporting number is provided for convenience and customs purposes, the written description of the merchandise is dispositive.

Revocation

Pursuant to section 751(c)(3)(A) of the Act, “{i}f no interested party responds to the notice of initiation . . . {Commerce} shall issue a final determination, within 90 days after the initiation of a review, revoking the order.” Because no domestic interested parties responded to the notice of initiation in these segments of the proceeding, Commerce is revoking the Order.

Effective Date of Revocation

Pursuant to section 751(c)(3)(A) of the Act and 19 CFR 351.222(i)(2)(i), Commerce intends to instruct U.S. Customs and Border Protection to terminate the suspension of liquidation of the merchandise subject to this Order entered, or withdrawn from the warehouse, on or after September 10, 2025, the fifth anniversary of the date of publication of the Order.⁷ Entries of subject merchandise prior to the effective date of revocation will continue to be subject to suspension of liquidation and AD deposit requirements. Commerce may conduct administrative reviews of subject merchandise entered prior to the effective date of revocation in response to appropriately filed requests for review.

⁷ See Order.

Notification to Interested Parties

We are issuing and publishing this notice in accordance with sections 751(c) and 777(i)(1) of the Act, and 19 CFR 351.218(d)(1)(iii)(B)(3) and 351.222(i)(1)(i).

Dated: January 6, 2026.
Christopher Abbott,
Deputy Assistant Secretary for Policy and Negotiations, performing the non-exclusive functions and duties of the Assistant Secretary for Enforcement and Compliance.

[FR Doc. 2026-00384 Filed 1-9-26; 8:45 am]

BILLING CODE 3510-DS-P